NATIONAL SCIENCE FOUNDATION

Advisory Committee for Environmental Research and Education; Notice of Meeting

In accordance with the Federal Advisory Committee Act (Pub. L. 92-463, as amended), the National Science Foundation announces the following meeting:

Name: Advisory Committee for Environmental Research and Education (9487).

Date/Time: November 16, 2016; 10:00 a.m.-12:00 p.m.

Place: National Science Foundation, 4201 Wilson Blvd., Arlington, VA 22230.

Type of Meeting: Open Teleconference.

Contact Person: Dr. Stephen Meacham, Senior Staff Associate, Office of Integrative Activities/Office of Director/National Science Foundation (Email: smeacham@nsf.gov/Telephone: (703) 292-8040).

Minutes: May be obtained from https://www.nsf.gov/ere/ereweb/minutes.jsp.

Purpose of Meeting: To provide advice, recommendations, and oversight concerning support for environmental research and education.

Agenda: To receive and discuss subcommittee work. Updated agenda and teleconference link will be available at https://www.nsf.gov/ere/ereweb/minutes.jsp.

Dated: October 21, 2016.
Suzanne Plimpton,
Acting Committee Management Officer.

[FR Doc. 2016-25917 Filed 10-25-16; 8:45 am]

BILLING CODE 7555-01-P